FEDERAL MARITIME COMMISSION

[Docket No. 03-04]

Diversified Freight Logistics, Inc. v. National Shipping Co. of Saudi Arabia; Notice of Filing of Complaint and Assignment

Notice is given that a complaint was filed by Diversified Freight Logistics, Inc. (“Complainant”), against the National Shipping Company of Saudi Arabia (“Respondent”). The complaint was served on May 20, 2003. Complainant alleges that Respondent violated sections 10(b)(3), 10(b)(4)(E), 10(b)(8) and 10(d)(1) of the Shipping Act, 46 U.S.C. app. 1709(b)(3), 1709(b)(4)(E), 1709(b)(8) and 1709(d)(1) by retaliating against it by initiating a civil suit against Complainant for “lost freight” arising from a canceled booking; by failing to compromise or settle its claim for lost freight; by imposing unreasonable prejudice or disadvantage by failing to seek reimbursement or commence suit against other forwarders or principles which have canceled bookings; and by failing to establish reasonable practices that allow a party to cancel bookings without peril of suit. Complainant seeks an order finding Respondent to have violated the sections cited above, a cease and desist order and reparations for certain expenses and fees.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by May 19, 2004, and the final decision of the Commission shall be issued by September 16, 2004.

Bryant L. VanBrakle,
Secretary.

[FR Doc. 03-13323 Filed 5-28-03; 8:45 am]

BILLING CODE 6730-01-P